DEPARTMENT OF THE INTERIOR

National Park Service

30-Day Notice of Intention to Request Clearance of Collection of Information; Opportunity for Public Comment

AGENCY: National Park Service, Interior.

ACTION: Notice and request for comments.

SUMMARY: Under the provisions of the Paperwork Reduction Act of 1995 and 5 CFR Part 1320, Reporting and Recordkeeping Requirements, the National Park Service (NPS) invites public comments on a revision of a currently approved collection of information (OMB #1024-0009).

DATES: Public comments on this Information Collection Request (ICR) will be accepted on or before October 19, 2009.

ADDRESSES: You may submit comments directly to the Desk Officer for the Department of the Interior (OMB #1024-0009), Office of Information and Regulatory Affairs, Office of Management and Budget (OMB), by fax at 202/395-5806, or by electronic mail at oira_docket@omb.eop.gov. Please also mail or hand carry a copy of your comments to Michael J. Auer, NPS Heritage Preservation Services, National Park Service, 1849 C St., NW., Washington, DC (2255) 20240 or via fax at 202/371-1616.

FOR FURTHER INFORMATION CONTACT: Michael J. Auer, NPS Heritage Preservation Services, National Park Service, 1849 C St., NW., Washington, DC (2255) 20240 or via fax at 202/371-1616. You are entitled to a copy of the entire ICR package free-of-charge. You may access this ICR at www.reginfo.gov/public/.

COMMENTS RECEIVED ON THE 60-DAY FEDERAL REGISTER NOTICE: The NPS published a 60-day notice to solicit public comments on this ICR in the Federal Register on February 3, 2009 (Vol. 74 No. 21, FR 5945). The comment period closed on April 6, 2009. No comments were received on this notice.

SUPPLEMENTARY INFORMATION: OMB Control Number: 1024-0009.

Title: Historic Preservation Certification Application—36 CFR Part 67.

Form(s): 10-168 (Part 1—Evaluation of Significance); 10-168a (Part 2—Description of Rehabilitation); 10-168b (Amendment Sheet); 10-168c (Part 3—Request for Certification of Completed Work).

Type of Request: Revision of a currently approved collection of information.

Description of Need: Abstract. Section 47 of the Internal Revenue Code requires that the Secretary of the Interior certify to the Secretary of the Treasury upon application by owners of historic properties for Federal tax benefits: (a) The historic character of the property, and (b) that the rehabilitation work is consistent with that historic character. The NPS administers the program with the Internal Revenue Service. NPS uses the Historic Preservation Certification Application to evaluate the condition and historic significance of buildings undergoing rehabilitation for continued use, and to evaluate whether the rehabilitation work meets the Secretary of the Interior's Standards for Rehabilitation. The Standards for Rehabilitation are available at 36 CFR Part 67.7 and at http://www.nps.gov/history/hps/tps/tax/rehabstandards.htm. The Department of the Interior regulation 36 CFR Part 67 contains a requirement for completion of an application form. The information required on the application form is needed to allow the authorized officer to determine if the applicant is qualified to obtain historic preservation certifications from the Secretary of the Interior. These certifications are necessary in order for an applicant to receive substantial Federal tax incentives authorized by Section 47 of the Internal Revenue Code. These incentives include 20% Federal income tax credit for the rehabilitation of historic buildings and an income tax deduction for the donation of easements on historic properties. The Internal Revenue Code also provides a 10% Federal income tax credit for the rehabilitation of non-historic buildings built before 1936. Owners of non-historic buildings in historic districts must also use the application to obtain a certification from the Secretary of the Interior that their building does not contribute to the significance of the historic district before they claim this lesser tax credit for rehabilitation.

Affected public: Individuals or households, businesses.

Obligation to respond: Responses are required to obtain the benefit applied for.

Frequency of response: On occasion.

Estimated total annual responses: 5,578 responses. A total of 1,583 for Form 10-168, a total of 1,245 for Form 10-168a, a total of 1,780 for Form 10-168b, and a total of 970 for Form 10-168c.

Estimated average completion time per response: Completion times vary from .5 to 39.8 hours.

Estimated annual reporting burden: 25,798 hours.

Estimated annual nonhour cost burden: $7,001,644 (application fees and contractor costs).

Comments are invited on: (1) the practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that OMB will be able to do so.

Dated: September 15, 2009.
Cartina Miller,
NPS Information Collection Clearance Officer.

[FR Doc. E9-22526 Filed 9-17-09; 8:45 am]

BILLING CODE 4312-52-P